DEPARTMENT OF THE INTERIOR

Bureau of Land Management

[WY-040-1610-DT]

Notice of Availability of the Final Environmental Impact Statement for the Jack Morrow Hills Coordinated Activity Plan and Proposed Green River Resource Management Plan Amendment, Wyoming

AGENCY: Bureau of Land Management, Interior.

ACTION: Notice of availability of the final environmental impact statement (FEIS) for the Jack Morrow Hills Coordinated Activity Plan (JMH CAP), and proposed Resource Management Plan (RMP) amendment.

SUMMARY: The Bureau of Land Management (BLM), in cooperation with the State of Wyoming, county governments, and conservation districts located within the planning area, announces the availability of the FEIS for the JMH CAP and Proposed Plan Amendment to the Green River RMP (1997). The FEIS documents the direct, indirect, and cumulative environmental impacts from the proposed CAP for the Jack Morrow Hills area within Sweetwater, Fremont, and Sublette Counties, Wyoming. The CAP will provide multiple use management direction for a variety of resource uses including energy resource development, recreational activities, livestock grazing, important wildlife habitat, cultural resources, special management areas (including areas of critical environmental concern), and other important resources and land uses in the planning area. The planning area encompasses approximately 622,000 acres, of which 585,000 acres are public land surface and Federal mineral estate administered by the BLM through its field office in Rock Springs, Wyoming.

Cooperating agencies under the National Environmental Protection Act (NEPA) in the preparation of the FEIS included the State of Wyoming and the following local Wyoming government entities: Sublette County, Popo Agie Conservation District, Sublette County Conservation District, Sweetwater County Conservation District, Fremont County, and Sweetwater County.

BLM published the Supplemental Draft Environment Impact Statement (SDEIS) for the JMH CAP area on February 14, 2003, and made it available for a 90-day public review and comment period. The distribution list included the agencies, companies, organizations and individuals that had expressed an interest during scoping. During the SDEIS review period, the BLM held public meetings in Rock Springs and Lander, Wyoming, to provide the public an opportunity to submit oral and written comments. All comments presented throughout the process have been considered during the preparation of the Final EIS.

DATES: The JMH CAP FEIS and Proposed Green River RMP Amendment will be available for review for 30 calendar days from the date the Environmental Protection Agency (EPA) publishes its Notice of Availability (NOA) in the Federal Register. Under the provisions of 43 Code of Federal Regulations (CFR) 1610.5-2, protests of the proposed BLM Green River RMP amendment must be filed with the BLM Director in accordance with instructions in the FEIS and in the Supplemental Information section of this notice. Protests of the proposed amendment to the Green River RMP will be accepted no later than 30 calendar days from the date the EPA publishes its NOA in the Federal Register.

ADDRESSES: A copy of the FEIS has been sent to affected Federal, State, and local government authorities, and to other interested parties. The document will be available electronically on the following Web site: www.wy.blm.gov/jmhcap.

Copies of the FEIS are available for public inspection at the following BLM office locations:

• Bureau of Land Management, Wyoming State Office, 5353 Yellowstone Road, Cheyenne, Wyoming 82009.

• Bureau of Land Management, Rock Springs Field Office, 280 Highway 191 North, Rock Springs, Wyoming 82901.

• Bureau of Land Management, Lander Field Office, 1335 Main Street, Lander, Wyoming 82520.

FOR FURTHER INFORMATION CONTACT: Michael R. Holbert, Field Manager, or Renee Dana, Jack Morrow Hills CAP Team Leader, Bureau of Land Management, Rock Springs Field Office, 280 Highway 191 North, Rock Springs, Wyoming 82901, 307-352-0256.

SUPPLEMENTARY INFORMATION: The FEIS analyzes five alternatives, including the no action alternative, ranging from preservation to full resource development. The alternatives provide and analyze specific management goals and objectives for the JMH CAP area. The approved CAP will include land and resource management decisions for fluid mineral leasing and mineral location that were deferred in the 1997 Green River RMP. The analysis conducted for the JMH CAP FEIS may be used to modify mineral decisions for the balance of the Green River RMP planning area. Consistent with regulations at 43 CFR 1610.5-5, modification or revision of mineral decisions made in the Green River RMP will require an amendment to that plan.

The BLM prepared and focused the impact analyses in the JMH CAP FEIS based on issues raised by the public during preparation of the Green River RMP and during the public scoping process for the CAP. The FEIS describes the physical, biological, cultural, historical, and socioeconomic resources in and surrounding the planning area. The JMH CAP provides management direction for the protection of important resources (e.g., desert elk and other big game habitat, unique sand dune-mountain shrub habitat, stabilized sand dunes), while allowing for appropriate levels of leasing and development of energy resources, recreational activities, livestock grazing, and other public land and resource uses.

In addition, the JMH CAP FEIS includes use of a monitoring, evaluation, and implementation management approach. Based on monitoring of impacts, BLM proposes to adjust, as needed, management of transportation planning, off-highway-vehicular use designations, livestock grazing practices, recreational activities, rights-of-way corridors and avoidance areas, and prescriptions for managing wildlife habitat.

Of the 585,000 acres of Federal mineral estate administered by the BLM in the JMH planning area, 85,000 acres are within the core area where the Green River RMP fluid mineral leasing and mineral location decisions were deferred in 1997. The JMH CAP planning area includes the Steamboat Mountain, Greater Sand Dunes, Oregon Buttes, and White Mountain Petroglyphs Areas of Critical Environmental Concern (ACEC). Seven Wilderness Study Areas (WSAs) and part of the South Pass Historic Landscape ACEC are also located in the planning area.

Proposed Plan: The BLM's Proposed Plan for the JMH CAP provides opportunities to use and develop the planning area by providing a balance of uses. The Proposed Plan comprises a complementary mix of appropriate elements from each alternative; however, the Proposed Plan also contains management actions (including an implementation, monitoring, and evaluation strategy) that were not a component of any of the other alternatives. As part of this implementation, monitoring and evaluation management strategy, portions of the planning area would be available for development and other surface disturbance activities, following NEPA analysis and the identification of appropriate mitigation. Other portions of the planning area would remain unavailable to new fluid mineral leasing. Boundaries of one existing ACEC would be expanded to protect sensitive resources.

No Action Alternative: The No Action Alternative is defined as a continuation of the present course of management until that management is changed. Ongoing programs initiated under existing legislation and regulations and the Green River RMP (1997) would continue. This alternative describes the current resource and land management direction for the JMH CAP planning area represented by the decisions stated in the Green River RMP, which provides for multiple use management of public lands and resources to meet foreseeable needs. No additional lands would be considered for leasing for fluid minerals in what is known as the “core” area, and there would not be any changes proposed for ACECs. Oil and gas lease suspensions would be lifted to allow for a resumption of oil and gas development activity on existing leases in the JMH planning area, including the core area.

Alternative 1—Development: Alternative 1 provides for expanded opportunities to use and develop the planning area. Alternative 1 emphasizes mineral development, allowing for new leases and permits for oil and gas and for mineral development throughout the planning area, consistent with existing laws and regulatory requirements and statutory withdrawals and closures. Additional lands would be considered for fluid mineral leasing in the JMH planning area, including the core area, and there would not be any changes proposed for ACECs.

Alternative 2—Preservation: Alternative 2 emphasizes opportunities to preserve and protect the planning area while reducing development opportunities. The alternative focuses on improving and protecting habitat for wildlife and sensitive plant and animal species; improving riparian areas and water quality; and protecting historic, cultural, and Native American sites. Boundaries of existing ACECs would be expanded to protect sensitive resources, and additional ACECs and Research Natural Area designations would be pursued. Additional lands would not be considered for fluid mineral leasing within the JMH planning area, including the core area. While some development or activities could occur in specific portions of the planning area with appropriate mitigation measures, alternative 2 would not allow development in areas with competing resource uses and would close or designate portions of the planning area to restrict land uses.

Alternative 3—Conservation: Alternative 3 provides opportunities to use and develop the planning area while ensuring resource protection. This alternative would allow development and activities to occur throughout the planning area, but emphasizes the protection of sensitive resources through appropriate mitigation. Mitigation requirements necessary to ensure the protection of sensitive resources would be determined through an adaptive management approach to resource use and protection. Additional lands would be considered for fluid mineral leasing in the JMH planning area, including the core area. Boundaries of existing ACECs would be expanded as necessary to protect sensitive resources.

Agency-Preferred Alternative: The BLM's preferred alternative is the Proposed Plan.

Proposed Decisions that would amend the land use plan: The Green River RMP (1997) would be amended to include management activities at the level analyzed in the FEIS and to adopt the new conditions of use. The Proposed Plan also changes oil and gas leasing allocation decisions, as these decisions were deferred from the Green River RMP. An amendment to the RMP would provide complete and concise descriptions of applicable management practices for oil and gas development.

The resource management planning process includes an opportunity for administrative review of proposed land use plan decisions during a 30-day protest period of the JMH CAP FEIS. Any person who participated in the planning process for the JMH CAP EIS and has an interest which is, or may be, adversely affected, may protest the JMH CAP FEIS proposed land use plan decisions to the BLM Director.

Ultimately, the BLM State Director's decision whether to adopt, reject or modify the proposed RMP amendment will be documented in a Record of Decision issued under the authority of the Federal Land Policy and Management Act, as codified at 43 CFR part 1610. Decisions regarding site-specific implementation activities will be subject to further NEPA analysis and appeal, as provided by applicable regulations.

How To Submit a Protest

Publication of this FEIS affords the public the opportunity to protest the JMH CAP. Instructions for filing a protest with the Director of the BLM regarding the State Director's proposed amendment to the Green River RMP may be found at 43 CFR 1610.5. Any person who participated in the planning process and has an interest in, or may be adversely affected by, the approval of the proposed Plan Amendment may protest such approval. A protest may raise only those issues submitted for the record during the planning process. The protest must be in writing and must be filed with the Director within 30 days from the date the EPA publishes the NOA for this FEIS in the Federal Register. The protest must contain:

i. The name, mailing address, telephone number, and interest of the person filing the protest;

ii. A statement of the issue or issues being protested;

iii. A statement of the part, or parts, of the plan or amendment being protested;

iv. A copy of all documents addressing the issue, or issues, that were submitted during the planning process by the protesting party or an indication of the date the issue, or issues, were discussed for the record; and

v. A concise statement explaining why the State Director's decision is believed to be wrong.

The Director's decision on the protest will be in writing and will set forth the reasons for the decision. The decision will be sent to the protesting party by certified mail, return receipt requested. The Director's decision is the final decision for the Department of the Interior.

Protest Filing Addresses: Written protests filed by Surface mail: U.S. Department of the Interior, Bureau of Land Management, Director (210), Attn: Ms. Brenda Williams, Protest Coordinator, P.O. Box 66538, Washington, DC 20035. Overnight mail: U.S. Department of the Interior, Bureau of Land Management, Director, Protest Coordinator (WO-210), 1620 L Street, NW., Room 1075, Washington, DC 20036. Electronic mail and facsimile protests will be considered only if the protesting party provides BLM with the original letter by either regular or overnight mail postmarked by the close of the protest period. Until the BLM receives the original letter of protest, it will consider the electronic or facsimile version as an advance copy. If you wish to provide BLM with such advance notification, please direct faxed protests to the attention of the BLM protest coordinator at 202-452-5112, and e-mails to Bhudgens@blm.gov. Only original protest letters that meet content, delivery, and deadline requirements as described above will be considered valid protests.

Dated: June 23, 2004.
Alan L. Kesterke,
Associate State Director.

[FR Doc. 04-15879 Filed 7-13-04; 8:45 am]

BILLING CODE 4310-22-P